DEPARTMENT OF DEFENSE

Department of the Navy

Notice of Intent To Grant Exclusive Patent License; Universal Guardian Corporation

AGENCY: Department of the Navy, DOD.

ACTION: Notice.

SUMMARY: The Department of the Navy hereby gives notice of its intent to grant to Universal Guardian Corporation a revocable, non-assignable, exclusive license to practice in the United States, the Government-owned invention described in U.S. Patent No. 6,145,441, entitled “Frangible Payload Dispensing Projectile,” issued November 14, 2000, Navy Case No. 78,561.

DATE: Anyone wishing to object to the grant of this license has fifteen (15) days from the date of this notice to file written objections along with supporting evidence, if any.

ADDRESS: Written objections are to be filed with Coastal Systems Station, Dahlgren Div, NSWC, 6703 W. Hwy 98, Code XP01L, Panama City, FL 32407-7001.

FOR FURTHER INFORMATION CONTACT: Mr. Harvey A. Gilbert, Counsel, Coastal Systems Station, 6703 W. Hwy 98, Code XP01L, Panama City, FL 32407-7001, telephone (850) 234-4646, fax (850) 235-5497, or E-Mail at gilbertha@ncsc.navy.mil.

SUPPLEMENTARY INFORMATION: The Notice of Intent to grant an exclusive license for this patent, which was previously advertised in the Federal Register on July 10, 2002 (67 FR 45709-45710), has been cancelled.

(Authority: 35 U.S.C. 207, 37 CFR Part 404).
Dated: October 22, 2002.
R.E. Vincent, II,
Lieutenant Commander, Judge Advocate General's Corps, U.S. Navy, Federal Register Liaison Officer.

[FR Doc. 02-27672 Filed 10-30-02; 8:45 am]

BILLING CODE 3810-FF-P